DEPARTMENT OF LABOR

Employment and Training Administration

[NAFTA-4358]

Warn Springs Forest Products Industries, Warm Springs, OR; Dismissal of Application for Reconsideration

Pursuant to 29 CFR 90.18(C) an application for administrative reconsideration was filed with the Director of the Division of Trade Adjustment Assistance for workers at Warm Springs Forest Products Industries, Warm Springs, Oregon. The application contained no new substantial information which would bear importantly on the Department's determination. Therefore, dismissal of the application was issued.

NAFTA-4358; Warm Springs Forest Products Industries Warm Springs, Oregon (May 2, 2001)

Signed at Washington, DC, this 3rd day of May, 2001.
Edward A. Tomchick,
Director, Division of Trade Adjustment Assistance.

[FR Doc. 01-12999 Filed 5-22-01; 8:45 am]

BILLING CODE 4510-30-M